DEPARTMENT OF COMMERCE

National Oceanic and Atmospheric Administration

Federal Consistency Appeal by Pan American Grain Co.

AGENCY: National Oceanic and Atmospheric Administration (NOAA), Department of Commerce.

ACTION: Notice of Appeal.

SUMMARY: This announcement provides notice that Pan American Grain Co., has filed an administrative appeal with the Department of Commerce (Department), requesting that the Secretary override an objection by the Puerto Rico Planning Board (Board) to the proposed improvement of port facilities located in San Juan Bay, Puerto Rico.

DATES: Comments regarding this appeal or requests for a public hearing must be sent in writing to the NOAA, Office of General Counsel for Ocean Services postmarked or e-mailed no later than March 29, 2010.

ADDRESSES: Materials from the appeal record will be available at the NOAA, Office of General Counsel for Ocean Services, 1305 East-West Highway, Room 6111, Silver Spring, MD 20910 and on the following Web site: http://www.ogc.doc.gov/czma.htm.

FOR FURTHER INFORMATION CONTACT: Gladys P. Miles, Attorney-Advisor, NOAA, Office of General Counsel, 301-713-7384, or at gcos.inquiries@noaa.gov.

SUPPLEMENTARY INFORMATION:

I. Notice of Appeal

On January 27, 2010, Pan American Grain Co. filed notice of an appeal with the Secretary of Commerce (Secretary), pursuant to the Coastal Zone Management Act of 1972 (CZMA), 16 U.S.C. 1451 et seq., and implementing regulations found at 15 CFR Part 930, Subpart H. The appeal is taken from an objection by the Board to Pan American's consistency certification for proposed improvements to its port facilities located in San Juan Bay, Puerto Rico.

Under the CZMA, the Secretary may override Alabama's objection on grounds that the project is consistent with the objectives or purposes of the CZMA or otherwise necessary in the interest of national security. To make the determination that the proposed activity is “consistent with the objectives or purposes of the CZMA,” the Department must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the applicable coastal management program. 15 CFR 930.121. Conversely, to make the determination that the proposed activity is “necessary in the interest of national security,” the Secretary must find that a national defense or other national security interest would be significantly impaired were the activity not permitted to go forward as proposed. 15 CFR 930.122.

II. Opportunity for Federal Agency and Public Comment

Pursuant to Department of Commerce regulations, the public and interested federal agencies may submit comments on this appeal. Written comments must be sent no later than March 29, 2010 to the attention of Gladys P. Miles, NOAA, Office of General Counsel for Ocean Services, 1305 East-West Highway, Room 6111, Silver Spring, MD 20910 or via e-mail to gcos.comments@noaa.gov.

III. Opportunity for a Public Hearing

Pursuant to Department of Commerce regulations, the Secretary may hold a public hearing on this appeal, either in response to a request for a public hearing or at the Secretary's own initiative. If a public hearing is held, it shall be noticed in the Federal Register, and the Secretary shall reopen the public and Federal agency comment period for a 10-day period following the hearings. Written requests for a public hearing must be sent no later than March 29, 2010 to the attention of Gladys P. Miles, NOAA, Office of General Counsel for Ocean Services, 1305 East-West Highway, Room 6111, Silver Spring, MD 20910 or via e-mail to gcos.comments@noaa.gov.

IV. Appeal Documents

NOAA intends to provide the public with access to all publicly available materials and related documents comprising the appeal record on the following Web site: http://www.ogc.doc.gov/czma.htm; and during business hours, at the NOAA, Office of General Counsel for Ocean Services. For additional information concerning this appeal, please contact Gladys P. Miles, NOAA, Office of General Counsel for Ocean Services, 301-713-7384 or gcos.inquiries@noaa.gov.

Dated: February 23, 2010.
Joel La Bissonniere,
Assistant General Counsel for Ocean Services, NOAA.

[Federal Domestic Assistance Catalog No. 11.419 Coastal Zone Management Program Assistance.]

[FR Doc. 2010-4076 Filed 2-25-10; 8:45 am]

BILLING CODE P